DEPARTMENT OF EDUCATION

RIN 1820 ZA17

National Institute on Disability and Rehabilitation Research (NIDRR)

AGENCY: Office of Special Education and Rehabilitative Services, Department of Education.

ACTION: Notice of final priorities.

SUMMARY: The Assistant Secretary for Special Education and Rehabilitative Services (OSERS) announces final priorities for Research Projects, a Research Infrastructure Capacity Building Project, a Technical Assistance Resource Center on Parenting with a Disability Project, and Development Projects under the Disability and Rehabilitation Research Projects (DRRP) Program of NIDRR for fiscal year (FY) 2003 and later years. We take these actions to focus research attention on areas of national need. We intend these priorities to improve the rehabilitation services and outcomes for individuals with disabilities.

EFFECTIVE DATE: This priority is effective August 25, 2003.

FOR FURTHER INFORMATION CONTACT: Donna Nangle, U.S. Department of Education, 400 Maryland Avenue, SW., room 3412, Switzer Building, Washington, DC 20202-2645. Telephone: (202) 205-5880 or via the Internet: donna.nangle@ed.gov.

If you use a telecommunications device for the deaf (TDD), you may call the TDD number at (202) 205-4475.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP program is to plan and conduct research, demonstration projects, training, and related activities that help to maximize the full inclusion and integration of individuals with disabilities into society and to improve the effectiveness of services authorized under the Rehabilitation Act of 1973, as amended (the Act).

An applicant for assistance under this program must demonstrate in its application how it will address, in whole or in part, the needs of individuals with disabilities from minority backgrounds (34 CFR 350.40(a)).

The approaches an applicant may take to meet this requirement may include one or more of the following (34 CFR 350.40(b)):

(1) Proposing project objectives addressing the needs of individuals with disabilities from minority backgrounds.

(2) Demonstrating that the project will address a problem that is of particular significance to individuals with disabilities from minority backgrounds.

(3) Demonstrating that individuals from minority backgrounds will be included in study samples in sufficient numbers to generate information pertinent to individuals with disabilities from minority backgrounds.

(4) Drawing study samples and program participant rosters from populations or areas that include individuals from minority backgrounds.

(5) Providing outreach to individuals with disabilities from minority backgrounds to ensure that they are aware of rehabilitation services, clinical care, or training offered by the project.

(6) Disseminating materials to or otherwise increasing the access to disability information among minority populations.

Under the DRRP program, we define a research project as basic or applied (34 CFR 350.5). Research is classified on a continuum from basic to applied:

(1) Basic research is research in which the investigator is concerned primarily with gaining new knowledge or understanding of a subject without reference to any immediate application or utility.

(2) Applied research is research in which the investigator is primarily interested in developing new knowledge, information, or understanding which can be applied to a predetermined rehabilitation problem or need. Applied research builds on selected findings from basic research.

In carrying out a research activity under this program (34 CFR 350.13), a grantee must:

(a) Identify one or more hypotheses; and

(b) Based on the hypotheses identified, perform an intensive systematic study directed toward—

(1) New or full scientific knowledge; or

(2) Understanding of the subject or problem studied.

Under the DRRP program, we define a development activity as the use of knowledge and understanding gained from research to create materials, devices, systems, or methods beneficial to the target population, including design and development of prototypes and processes.

Note: NIDRR supports the goals of President Bush's New Freedom Initiative (NFI). The NFI can be accessed on the Internet at the following site: http://www.whitehouse.gov/news/freedominitiative/freedominitiative.html.

The final priorities are in concert with NIDRR's Long-Range Plan (the Plan). The Plan is comprehensive and integrates many issues relating to disability and rehabilitation research topics. While applicants will find many sections throughout the Plan that support potential research to be conducted under these final priorities, a specific reference is included for each topic presented in this notice. The Plan can be accessed on the Internet at the following site: http://www.ed.gov/offices/OSERS/NIDRR/Products.

Through the implementation of the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

We published a separate notice of each proposed priority (NPP) in the Federal Register on May 9, 2003.

Priority 1—Research Projects (84.133A-1) (68 FR 25014).

Priority 2—Research Infrastructure Capacity Building (84.133A-4) (68 FR 25009).

Priority 3—Technical Assistance Resource Center on Parenting with a Disability (84.133A-5) (68 FR 25017).

Priority 4—Development Projects (84.133A-7) (68 FR 25006).

We have combined these four priorities in this notice of final priorities (NFP).

There are no significant differences between the NPPs and this NFP.

Analysis of Comments and Changes

In response to our invitation in the NPPs, several parties submitted comments.

We discuss these comments and changes in the Analysis of Comments and Changes section published as an appendix to this notice.

Note: This NFP does not solicit applications. In any year in which we choose to use one or more of these priorities, we invite applications through a notice in the Federal Register. A notice inviting applications for FY 2003 awards was published in the Federal Register on May 29, 2003 (68 FR 32026). When inviting applications we designate each priority as absolute, competitive preference, or invitational. The effect of each type of priority follows:

Absolute priority: Under an absolute priority, we consider only applications that meet the priority (34 CFR 75.105(c)(3)).

Competitive preference priority: Under a competitive preference priority, we give competitive preference to an application by either (1) Awarding additional points, depending on how well or the extent to which the application meets the priority (34 CFR 75.105(c)(2)(i)); or (2) selecting an application that meets the priority over an application of comparable merit that does not meet the priority (34 CFR 75.105(c)(2)(ii)).

Invitational priority: Under an invitational priority, we are particularly interested in applications that meet the invitational priority. However, we do not give an application that meets the priority a competitive or absolute preference over other applications (34 CFR 75.105(c)(1)).

Background

The background statements for the following priorities were published in the NPPs on May 9, 2003.

Priorities

Priority 1—Research Projects

The Assistant Secretary will fund one or more DRRPs that will focus on stabilizing and improving lives of persons with disabilities. In carrying out the purposes of this priority, projects awarded under each of the following topics must, in consultation with the NIDRR project officer:

• Coordinate and establish partnerships, as appropriate, with other academic institutions and organizations that are relevant to the project's proposed activities;

• Demonstrate use of culturally appropriate data collection, evaluation, dissemination, training and research methodologies, and significant knowledge of the needs of individuals with disabilities from traditionally underserved populations;

• Involve, as appropriate, individuals with disabilities or their family members, or both, in all aspects of the research as well as in the design of clinical services and dissemination activities;

• Demonstrate how the research project can transfer research findings to practical applications in planning, policy-making, program administration, and delivery of services to individuals with disabilities; and

• Disseminate findings to appropriate audiences, including information on best practices, where applicable.

An applicant must propose research activities and dissemination of findings under one of the following topics:

(a) Self-Determination in Transition to Adulthood for Youth with Disabilities: Under this topic, a project must conduct research and disseminate information about factors that enhance and promote self-determination for youth with disabilities who are transitioning into adulthood. The project may include research on interventions that (1) enable successful transition to life activities such as independent living, higher education, and employment; and (2) improve functional outcomes such as enhanced memory, learning, visual perception, auditory reception, literacy, and self-advocacy. The reference for this topic can be found in the Plan, chapter 3, Employment Outcomes: Transition from School to Work.

(b) Examining Violence Against People With Disabilities: Under this topic, a project must conduct research and disseminate information on violence against persons with disabilities. Activities may include research on statistics related to criminal victimization of people with disabilities compiled under the 1998 Crime Victims with Disabilities Awareness Act (Pub. L. 301-105); study of data from enhanced crime incident reports; and analysis of data and research findings on the impact of violence on specific populations such as, but not limited to, individuals with cognitive or intellectual disabilities, women with disabilities, individuals with sensory disabilities, and individuals with mobility disabilities. The reference for this topic can be found in the Plan, chapter 2, Dimensions of Disability: Emerging Universe of Disability.

(c) Family and Cultural Aspects of Independent Living: Under this topic, a project must conduct research and disseminate information on how individuals with disabilities draw upon their families (or those with whom they share living arrangements) to obtain necessary supports such as economic assistance, informal and formal care giving, and emotional nurturing. Activities may include: (1) Identifying factors that help or hinder NFI goals regarding educational attainment, home ownership, and full access in community life; (2) research on ways that family and shared-community living arrangements may facilitate independence and help implement the Supreme Court's Olmstead v. L.C. ruling; and (3) research on how family and shared-community living arrangements may facilitate meeting the objectives for people with disabilities in Healthy People 2010. The references for this topic can be found in the Plan, chapter 2, Dimensions of Disability: Disability, Employment, and Independent Living, and chapter 6, Research on Social Roles.

(d) Older Women and Falls: Under this topic, a project must identify and compare outcomes-oriented rehabilitation interventions for older women to overcome the disabilities and secondary conditions associated with falls and to prevent secondary falls and other complications. The project must examine risk factors for falls (e.g., age, disability, medications use, health, functional ability, environmental hazards). The references for this topic can be found in the Plan, chapter 2, Dimensions of Disability: Emerging Universe of Disability, and chapter 4, Health and Function: Research on Trauma Rehabilitation; Research on Aging.

(e) Issues in Asset Accumulation and Tax Policy for People with Disabilities: Under this topic, a project must conduct research on fiscal and social environmental barriers to economic empowerment and self-sufficiency for people with disabilities and the impact of legislation designed to promote economic self-sufficiency and facilitate community integration. The project must conduct systematic analysis of the relationship between tax policy and asset accumulation for individuals with disabilities and improved economic and community integration outcomes. This includes testing the impact of asset accumulation on economic improvements and community integration for individuals with disabilities. The reference for this topic can be found in the Plan, chapter 3, Employment Outcomes: Economic Policy and Labor Market Trends.

(f) Identifying Opportunities and Barriers to Entrepreneurship for People with Disabilities: Under this topic, a project must conduct research on ways to improve employment outcomes of individuals with disabilities through self-employment and entrepreneurial strategies and how to train both people with disabilities and counselors in successful use of these strategies. The research must include analysis of the effects of policies and practices of the vocational rehabilitation system; related programs such as those of the Small Business Administration; and other public, private, or nonprofit employment organizations on self-employment options for individuals with disabilities. The reference for this topic can be found in the Plan, chapter 3, Employment Outcomes: Economic Policy and Labor Market Trends.

Priority 2—Research Infrastructure Capacity Building

The Assistant Secretary will fund one DRRP that will focus on a research, development, and dissemination project on Research Infrastructure Capacity Building. The reference for this topic can be found in the Plan, chapter 9, Capacity Building: Priorities in Capacity Building. In carrying out this priority the DRRP must:

(1) Develop and evaluate an innovative method(s) for establishing long-term collaborative research partnerships, with an emphasis on relationships among minority entities, Indian tribes, and nonminority entities;

(2) Research, develop, and evaluate strategies to assess the efficacy of existing research theories, methodologies, and measures for studying and describing underrepresented individuals with disabilities from minority racial and ethnic populations and their needs;

(3) Research, identify and modify or develop, and evaluate scientifically valid measurement strategies and methodologies for research involving the study of underrepresented minority racial and ethnic populations; determine their efficacy; and examine the implications of introducing newly developed approaches designed specifically for the study of this population;

(4) Develop and evaluate research principles or standards for culturally appropriate and linguistically competent disability and rehabilitation research, and disseminate guidelines; and

(5) Develop, implement, and evaluate approaches for disseminating research findings, information about best practices for research involving underrepresented minority racial and ethnic populations, and information about research collaboration.

In carrying out the purposes of the priority, the DRRP must:

• In the first three months of the grant, develop and implement a research partnership plan ensuring that all activities are predominantly focused on research infrastructure capacity building and provide for mutual benefit for each member of the partnership, including persons with disabilities or their representatives;

• In the first year of the grant, implement a plan to disseminate research results;

• In the third year of the grant, conduct a state-of-the-science conference focused on the funded area of research and related topics;

• In the fourth year of the grant, publish and disseminate a comprehensive report on the outcomes and proceedings of the conference;

• Demonstrate how the research project can transfer research findings to practical applications in planning, policy-making, program administration, and delivery of services to individuals with disabilities; and

• Conduct ongoing program evaluation and produce a closing report describing research outcomes, as they relate to the research goals and objectives, and future directions for research infrastructure development and capacity building.

Priority 3—Resource and Technical Assistance Center on Parenting with a Disability

The Assistant Secretary will fund one DRRP that will focus a dissemination, utilization, training, and technical assistance project to be a “Resource and Technical Assistance Center on Parenting with a Disability.” The references for this topic can be found in the Plan, chapter 2, Dimensions of Disability: Disability, Employment, and Independent Living, and chapter 8, Knowledge Dissemination and Utilization: Overview. The DRRP must:

(1) Develop quality standards to guide the identification of information for dissemination;

(2) Provide information and technical assistance to people with disabilities who are or wish to be parents. A variety of methods and tools will be developed to provide information and technical assistance. Tools might include such items as: catalogues and listings of assistive technology, fact sheets, and articles for publication in various media. Methods to reach interested parties might include: interactive features of the Internet, wide area telephone service, presentations at meetings or conferences and personal visits;

(3) Develop parent-to-parent support methods, including approaches for sharing of information about “best practices” in parenting with a disability;

(4) Train parents, potential parents, service providers, and others on issues relating to parenting with a disability and the research, information, and services available to them; and

(5) Evaluate project technical assistance and information dissemination activities.

In carrying out the purposes of the priority, the DRRP must:

• Through consultation with the NIDRR project officer, coordinate and establish partnerships, as appropriate, with other projects sponsored by OSERS, academic institutions, and organizations that are relevant to the project's proposed activities;

• Demonstrate how the project will yield measurable results for people with disabilities;

• Identify specific performance targets and propose outcome indicators, along with time lines to reach these targets; and

• Using information developed from the project's dissemination, training, and technical assistance activities, with emphasis on materials from NIDRR projects, provide materials, consultation, technical assistance, and related capacity-building activities to NIDRR grantees on how to assist parents with disabilities.

Priority 4—Development Projects

The Assistant Secretary will fund one or more DRRPs that will focus on stabilizing and improving lives of persons with disabilities. In carrying out the purposes of the priority, projects awarded under each of the following topics, in consultation with the NIDRR project officer, must:

• Coordinate and establish partnerships, as appropriate, with other academic institutions and organizations that are relevant to the project's proposed activities;

• Demonstrate use of culturally appropriate data collection, evaluation, dissemination, training, and development methodologies and significant knowledge of the needs of individuals with disabilities from traditionally underserved populations;

• Involve, as appropriate, individuals with disabilities or their family members, or both, in all aspects of development as well as in the design of clinical services and dissemination activities;

• Demonstrate how the project will yield measurable results for people with disabilities;

• Identify specific performance targets and propose outcome indicators, along with time lines to reach these targets; and

• Disseminate findings on products and technologies to appropriate audiences, including information on best practices, where applicable.

An applicant must propose development activities and dissemination of findings under one of the following topics:

(a) Voting Access and Privacy. Under this topic, a project must develop technologies, strategies, and approaches that can be used to improve and expand access, including physical accessibility, to voting accurately, independently, and privately for all citizens with disabilities. Voting is a citizen's most basic right. Yet many individuals with disabilities find it difficult, if not impossible, to vote without a poll worker's or another individual's assistance. Development products may address, but are not limited to, voting apparatus, accommodations information, training materials (i.e., books, guidelines, electronic materials) for public elections officials and citizens, and cost analysis and evaluation of products and technologies to enhance voting access for citizens with disabilities. The reference for this topic can be found in the Plan, chapter 5, Technology for Access and Function: Research to Improve Accessibility of Telecommunications and Information Technology.

(b) Technologies for Families and Caregivers. Under this topic, a project must develop technologies, strategies, and approaches that will facilitate and improve the continuum of activities and reduce the demands involved in care giving for individuals with disabilities. The upsurge of programs such as “Long-Term Care” and “Home-Health Care” has stimulated the need for tools and strategies that enable individuals with disabilities to live longer and more productively in their communities. New and improved technologies for care giving will help implement the Supreme Court's Olmstead v. L.C. decision. Development products may address, but are not limited to, evaluation and assessment of existing technology solutions, accommodations information, training materials (i.e., books, guidelines, electronic materials) for public officials and citizens, and cost analysis and evaluation of products and technologies to enhance community integration, personal assistance services, and independent living for citizens with disabilities. The reference for this topic can be found in the Plan, chapter 5, Technology for Access and Function: Assistive Technology for Individuals.

Executive Order 12866

This NFP has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the priorities justify the costs.

Summary of Potential Costs and Benefits

The potential costs associated with these priorities are minimal while the benefits are significant. Grantees may anticipate costs associated with completing the application process in terms of staff time, copying, and mailing or delivery. The use of e-Application technology reduces mailing and copying costs significantly.

The benefits of the DRRP Program have been well established over the years in that similar projects have been successfully completed. These final priorities will generate new knowledge through research to focus on stabilizing and improving lives of persons with disabilities.

The benefit of these final priorities and project requirements will be the establishment of new DRRP projects that generate, disseminate, and promote the use of new information that will improve the options for disabled individuals to perform regular activities in the community.

Applicable Program Regulations: 34 CFR part 350.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number 84.133A, Disability Rehabilitation Research Project)

Program Authority: 29 U.S.C. 762(g) and 764(a).

Dated: July 22, 2003.
Robert H. Pasternack,
Assistant Secretary for Special Education and Rehabilitative Services.

Appendix

Analysis of Comments and Changes

General

Comment: Several commenters raised concerns that NIDRR did not publish a priority that specifically targeted Native Americans.

Discussion: The priority on Research Infrastructure Capacity Building includes Native Americans as a proposed target group. Nothing in the other published priorities precludes applicants from proposing Native Americans as the target population for the proposed research. The peer review process will evaluate the merits of the proposal.

Changes: None.

Comment: One commenter expressed several concerns about references to racial, ethnic, and linguistic minority populations in the NIDRR priorities. These concerns included: (1) NIDRR's use of a standard statement about inclusion of minorities in research activities; (2) combining ethnic categories into one proposed priority is inappropriate; (3) NIDRR does not ensure that applicants demonstrate “who, what, when, and where” in addressing the needs of individuals with disabilities from minority backgrounds; and (4) the American Indian and Alaska Native populations are a culturally and linguistically diverse population. Commenters also noted that many caregivers do not speak, write, or read the English language, and they questioned whether it was likely that potential grantees would deal with caregivers who do not speak, write, or read the English language or would address minority backgrounds including American Indians and Alaska Natives with disabilities.

Discussion: (1) The standard statement that each NIDRR applicant must demonstrate in its application how it will address, in whole or in part, the needs of individuals with disabilities from minority backgrounds is required by 34 CFR 350.40(a), and as a result, cannot be changed by this priority. (2) Nothing in these priorities precludes an applicant from focusing on any racial, ethnic, or minority population, including American Indians and Alaska Natives. (3) In section 350.40(b), NIDRR lists some of the approaches applicants may take to meet the requirement in § 350.40(a), including, for example, addressing a problem that is of particular significance to individuals with disabilities from minority backgrounds and generating information pertinent to individuals with disabilities from minority backgrounds. (4) In the background section to these priorities, language barriers and lack of understanding about cultural values and beliefs are identified as challenges to the effectiveness of rehabilitation services received by individual with disabilities form minority backgrounds. An applicant may choose to include linguistic or cultural issues in the proposed research activities. However, NIDRR has no basis for requiring that all applicants adopt the same approach or address the same issue. The peer review process will evaluate the merits of the proposal.

Changes: None.

Violence:

Comment: One commenter expressed an opinion that focusing on analysis of “extant data from crime reports” might unnecessarily limit the scope of research in the proposed DRRP priority on violence.

Discussion: NIDRR agrees that it might be valuable to collect new data to answer research questions in this area. Nothing in the priority precludes an applicant from suggesting such an approach. However, NIDRR has no basis for requiring all applicants to collect new data. The peer review process will evaluate the merits of the proposal.

Changes: None.

Technical Assistance Resource Center

Comment: One commenter suggested that the Technical Assistance Resource Center provide information on coordinated services for parents who are deaf or hard of hearing.

Discussion: NIDRR agrees that this might be a useful service. Nothing in the priority prohibits an applicant from suggesting this approach. However, NIDRR has no basis for requiring that all applicants take this approach. The peer review process will evaluate the merits of the proposal.

Changes: None.

Research Methods for Underserved Populations

Comment: One commenter expressed concern that Native Americans and Alaska Natives are listed with other minority population categories as a potential focus of this priority and recommended that the priority should specify the target population so that researchers studying different ethnic populations do not have to compete against each other.

Discussion: NIDRR is committed to improving research methods for studying all minority and ethnic populations. Nothing in the priority precludes an applicant from targeting a specific population. The peer review process will evaluate the merits of the proposal.

Changes: None.

[FR Doc. 03-19015 Filed 7-24-03; 8:45 am]

BILLING CODE 4000-01-P